DEPARTMENT OF VETERANS AFFAIRS

38 CFR Part 70

RIN 2900-AM02

Beneficiary Travel and Special Mode Transportation Under 38 U.S.C. 111 Within the United States

AGENCY: Department of Veterans Affairs.

ACTION: Correcting amendment.

SUMMARY: This final rule corrects the approved Office of Management and Budget (OMB) Control Number relating to collection of information under the Department of Veterans Affairs (VA) regulations that govern beneficiary travel.

DATES: This final rule is effective February 15, 2024.

FOR FURTHER INFORMATION CONTACT: Ethan Kalett, Office of Regulations, Appeals, and Policy, Veterans Health Administration, Department of Veterans Affairs, 810 Vermont Avenue NW, Washington, DC 20420, (202) 461-7633. This is not a toll free number.

SUPPLEMENTARY INFORMATION: In a document published in the Federal Register on June 30, 2008, VA amended the beneficiary travel regulations that provide a mechanism for payment of travel expenses within the United States under 38 U.S.C. 111 to help veterans and other persons obtain care and services from VA's Veterans Health Administration. See 73 FR 36796. There is an information collection requirement in 38 CFR 70.20. Under 44 U.S.C. 3507(a), an agency may not collect or sponsor the collection of information, nor may it impose an information collection requirement, unless it displays a currently valid Office of Management and Budget (OMB) control number. See also 5 CFR 1320.8(b)(3)(vi).

As required by 44 U.S.C. 3507(d), VA submitted this information collection to OMB for its review. OMB approved the information collection requirement associated with the final rules and assigned OMB control number 2900-0080. However, § 70.20 contains an inaccurate OMB control number of 2900-0080. The correct OMB control number should be 2900-0798. This final rule updates § 70.20 by substituting the correct and approved OMB control number.

Signing Authority

Denis McDonough, Secretary of Veterans Affairs, approved and signed this document on February 9, 2024, and authorized the undersigned to sign and submit the document to the Office of the Federal Register for publication electronically as an official document of the Department of Veterans Affairs.

Michael P. Shores,
Director, Office of Regulation Policy & Management, Office of General Counsel, Department of Veterans Affairs.

List of Subjects in 38 CFR Part 70

Administrative practice and procedure, Alcohol abuse, Alcoholism, Claims, Day care, Dental health, Drug abuse, Foreign relations, Government contracts, Grant programs—health, Grant programs—veterans, Health care, Health facilities, Health professions, Health records, Homeless, Medical and dental schools, Medical devices, Medical research, Mental health programs, Nursing homes, Philippines, Reporting and recordkeeping requirements, Scholarships and fellowships, Travel and transportation expenses, Veterans.

For the reasons set out in the preamble, the Department of Veterans Affairs amends 38 CFR part 70 as follows:

PART 70—VETERANS TRANSPORTATION PROGRAMS

1. The authority citation for part 70 continues to read as follows:

Authority: 38 U.S.C. 101, 111, 111A, 501, 1701, 1714, 1720, 1728, 1782, 1783, and E.O. 11302, 31 FR 11741, 3 CFR, 1966-1970 Comp., p. 578, unless otherwise noted.

§ 70.20 [Amended]

2. Amend § 70.20 by removing “(The Office of Management and Budget has approved the information collection requirements in this section under control number 2900-0080.)” at the end of the section and adding in its place “(The Office of Management and Budget has approved the information collection requirement in this section under control number 2900-0798.)”.

[FR Doc. 2024-03127 Filed 2-14-24; 8:45 am]

BILLING CODE 8320-01-P